SMALL BUSINESS ADMINISTRATION

National Regulatory Fairness Hearing

AGENCY: Office of the National Ombudsman, Small Business Administration.

ACTION: Notice of hearing of the Regional Small Business Regulatory Fairness Boards.

SUMMARY: The SBA Office of the National Ombudsman is issuing this notice to announce the location, date, and time of the National Regulatory Fairness Hearing. This hearing is open to the public. The topic of the hearing is “The Impact of Joint Ventures: Small Business Participation in Multiple Award Contracts”. The hearing will provide a platform for small businesses to share successes and challenges in competing for Multiple Award Task Order Contracts (MATOCs) related to Joint Ventures (JVs).

DATES: The meeting will be held on Thursday, September 12th, 2024, from 9:00 a.m.-12:00 p.m. EDT.

ADDRESSES: The meeting will be at U.S. Small Business Administration, 409 3rd Street SW, Washington, DC 20416, on the concourse level in Eisenhower Hall.

SUPPLEMENTARY INFORMATION: Pursuant to the Small Business Regulatory Enforcement Fairness Act (Pub. L. 104-121), sec. 222, SBA announces the national hearing held by the Regional Small Business Regulatory Fairness Boards (Regional Regulatory Fairness Boards). The Regional Regulatory Fairness Boards are tasked to advise the National Ombudsman on matters of concern to small businesses relating to enforcement activities of agencies and to report on substantiated instances of excessive enforcement actions against small business concerns, including any findings or recommendations of the Board as to agency enforcement practice or policy.

FOR FURTHER INFORMATION CONTACT: The hearing is open to the public; however advance notice of attendance is requested. Anyone wishing to attend and/or make a presentation to the Regulatory Fairness Board must contact Tiffany Younger Banks, Case Management Specialist, by August 28, 2024, by phone (888) 734-3247, by fax (202) 481-5719 or email ombudsman@sba.gov in order to be placed on the agenda. Additionally, if you need accommodations because of a disability, translation services, or require additional information, please contact Tiffany Younger Banks as well, no later than August 28, 2024.

For more information on the Office of the National Ombudsman, please visit our website at www.sba.gov/ombudsman.

Dated: August 8, 2024.
Andrienne Johnson,
SBA Committee Management Officer.

[FR Doc. 2024-18188 Filed 8-14-24; 8:45 am]

BILLING CODE P